DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. chapter 35). To request a copy of these documents, call the SAMHSA Reports Clearance Officer on (240) 276-1243.

Project: Pretesting of Substance Abuse Prevention and Treatment and Mental Health Services Communication Messages—(OMB No. 0930-0196)—Extension

As the Federal agency responsible for developing and disseminating authoritative knowledge about substance abuse prevention, addiction treatment, and mental health services and for mobilizing consumer support and increasing public understanding to overcome the stigma attached to addiction and mental illness, the Substance Abuse and Mental Health Services Administration (SAMHSA) is responsible for development and dissemination of a wide range of education and information materials for both the general public and the professional communities. This submission is for generic approval and will provide for formative and qualitative evaluation activities to (1) assess audience knowledge, attitudes, behavior and other characteristics for the planning and development of messages, communication strategies and public information programs; and (2) test these messages, strategies and program components in developmental form to assess audience comprehension, reactions and perceptions. Information obtained from testing can then be used to improve materials and strategies while revisions are still affordable and possible. The annual burden associated with these activities is summarized below.

Activity | Nunmber of respondents | Responses/ respondent | Hours per response | Total hours
Individual In-depth Interviews:
General Public | 400 | 1 | .75 | 300
Service Providers | 200 | 1 | .75 | 150
Focus Group Interviews:
General Public | 3,000 | 1 | 1.5 | 4,500
Service Providers | 1,500 | 1 | 1.5 | 2,250
Telephone Interviews:
General Public | 335 | 1 | .08 | 27
Service Providers | 165 | 1 | .08 | 13
Self-Administered Questionnaires:
General Public | 2,680 | 1 | .25 | 670
Service Providers | 1,320 | 1 | .25 | 330
Gatekeeper Reviews:
General Public | 1,200 | 1 | .50 | 600
Service Providers | 900 | 1 | .50 | 450
Total | 11,700 |  |  | 9,290

Written comments and recommendations concerning the proposed information collection should be sent by August 16, 2010 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-5806.

Dated: July 9, 2010.
Elaine Parry,
Director, Office of Program Services.

[FR Doc. 2010-17358 Filed 7-15-10; 8:45 am]

BILLING CODE 4162-20-P